DEPARTMENT OF LABOR

Employment and Training Administration

[TA-W-61,553 TA-W-61,553A; TA-W-61,553B; TA-W-61,553C; TA-W-61,553D]

Honeywell Resins & Chemicals, Resins & Chemicals Division, Including On-Site Leased Workers From Defender Services, Inc., and Manpower Anderson, SC; Including Employees of Honeywell Resins & Chemicals, Resins & Chemicals Division, Anderson, SC, Working in the Following Locations: Waxhaw, NC; Cortlandt Manor, NY; Mooresville, NC; Greensboro, NC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on July 11, 2007, applicable to workers of Honeywell Resins & Chemicals, Resins & Chemicals Division, including on-site leased workers from Defender Services, Inc., and Manpower, Anderson, South Carolina. The notice was published in the Federal Register on July 26, 2007 (72 FR 41088).

At the request of the State agency, the Department reviewed the certification for workers of the subject firm. The workers produced nylon fibers for textile applications.

New information shows that worker separations have occurred involving employees of the Anderson, South Carolina facility of Honeywell Resins & Chemicals, Resins & Chemicals Division working in the following locations: Waxhaw, North Carolina (Mr. Patrick Williams), Cortlandt Manor, New York (Mr. Walter Pinsdorf), Mooresville, North Carolina (Mr. C. Wright Sizemore), and Greensboro, North Carolina (Mr. Richard Wald).

Based on these findings, the Department is amending this certification to include employees of the Anderson, South Carolina facility of Honeywell Resins & Chemicals, Resins & Chemicals Division, located in the above mentioned locations.

The intent of the Department's certification is to include all workers of Honeywell Resins & Chemicals, Resins & Chemicals Division, Anderson, South Carolina, who are adversely affected secondary workers.

The amended notice applicable to TA-W-61,553 is hereby issued as follows:

All workers of Honeywell Resins & Chemicals, Resin and Chemicals Division, Anderson, South Carolina, including on-site leased workers of Defender Services, Inc., and ManPower (TA-W-61,553), and including employees of Honeywell Resins & Chemicals, Resin and Chemicals Division, Anderson, South Carolina located in Waxhaw, North Carolina (TA-W-61,553A), Cortlandt Manor, New York (TA-W-61,553B), Mooresville, North Carolina (TA-W-61,553C), and Greensboro, North Carolina (TA-W-61,553D), who became totally or partially separated from employment on or after May 21, 2006, through July 11, 2009, are eligible to apply for adjustment assistance under section 223 of the Trade Act of 1974, and are also eligible to apply for alternative trade adjustment assistance under section 246 of the Trade Act of 1974.

Signed at Washington, DC, this 6th day of February 2008.
Linda G. Poole,
Certifying Officer, Division of Trade Adjustment Assistance.

[FR Doc. E8-2735 Filed 2-13-08; 8:45 am]

BILLING CODE 4510-FN-P